DEPARTMENT OF COMMERCE

International Trade Administration

National Institutes of Health—Bethesda, MD; Notice of Decision on Application for Duty-Free Entry of Scientific Instrument

This decision is made pursuant to section 6(c) of the Educational, Scientific, and Cultural Materials Importation Act of 1966 (Pub. L. 89-651, 80 Stat. 897; 15 CFR part 301). Related records can be viewed between 8:30 a.m. and 5 p.m. in Suite 4100W, U.S. Department of Commerce, Franklin Court Building, 1099 14th Street, NW., Washington, DC.

Docket Number: 02-048. Applicant: National Institutes of Health, Bethesda, MD 20892-0135. Instrument: (2) each Multi-Tasking Radiosynthesis Devices with Accessories. Manufacturer: Synthia Lab System Sweden AB, Sweden. Intended Use: See notice at 67 FR 77749, December 19, 2002.

Comments: None received. Decision: Approved. No instrument of equivalent scientific value to the foreign instrument, for such purposes as it is intended to be used, is being manufactured in the United States. Reasons: The foreign instrument provides computer driven, robotically controlled modular reactors for producing more than 15 ¹¹C-labeled radiopharmaceutical compounds for research in human and primate brain chemistry and radiochemical compound development. The Lawrence Berkeley National Laboratory advised January 27, 2003, that (1) this capability is pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 03-3082 Filed 2-6-03; 8:45 am]

BILLING CODE 3510-DS-P